DEPARTMENT OF THE INTERIOR

National Park Service

Notice of Availability of a Final Environmental Impact Statement for the Fort King Special Resource Study

SUMMARY: Pursuant to Section 102(2)(C) of the National Environmental Policy Act (NEPA) of 1969 the National Park Service (NPS) announces the availability of a Final Environmental Impact Statement (FEIS) for the Fort King Special Resource Study. The document describes ways that the NPS may assist in preserving the Fort King site by outlining four management alternatives for consideration by Congress, including a no-action alternative. The FEIS analyzes the environmental impacts of those alternatives considered for the future protection, interpretation, and management of the site's cultural resources. The 37-acre study area is located in the city of Ocala, Marion County, Florida.

DATES: There will be a 30-day waiting period beginning with the Environmental Protection Agency's publication of its Notice of Availability in the Federal Register.

ADDRESSES: Copies of the FEIS are available by contacting Tim Bemisderfer, Planning and Compliance Division, Southeast Region, National Part Service, 100 Alabama Street, SW., 1924 Building, Atlanta, Georgia 30303. An electronic copy of the FEIS is available on the internet at http://parkplanning.nps.gov.

FOR FURTHER INFORMATION CONTACT: Tim Bemisderfer, 404-562-3124, extension 693.

SUPPLEMENTARY INFORMATION: The official comment period for the Fort King Special Resources Study and Draft Environmental Impact Statement (DEIS) began on November 30, 2005, and ended on January 30, 2006. The public was actively engaged in reviewing the draft document with over 250 copies of the DEIS distributed to stakeholders throughout Florida and beyond. Two well attended public meetings were held in Ocala, Florida on January 18, 2006.

Public comment on the DEIS did not result in substantive changes to the alternatives in the FEIS. Alternative A is the no-action alternative. For the purposes of this study, it is assumed that the Fort King site would continue to be owned and managed cooperatively by the city of Ocala, Marion County, and the Ocala Chapter of the Daughters of the American Revolution. The site would remain predominantly undeveloped, public access would be restricted, and the site's archeological resources would be protected and preserved in an undistributed condition. Under Alternative B, the site's archeological resources would be preserved and interpreted in-situ. Alternative B takes a conservative approach to site development that favors a simple and low cost implementation strategy. Under Alternative C, existing site infrastructure would be used as a base to quickly and efficiently provide public access and interpretive services. Alternative C favors a development strategy that builds upon a modest initial investment that can be expanded over time as additional funding and resources are secured. Under Alternative D, Fort King would highlight the site's strong association with nationally significant historical events and interpretive themes. Alternative D takes an ambitious approach to site development. Its larger initial investment in cultural landscape rehabilitation and visitor service infrastructure is intended to quickly establish the name recognition and credibility necessary to attract higher profile partners and compete for private and public financing.

Authority: The authority for publishing this notice is 40 CFR 1506.6.

The responsible official for the FEIS is Patricia A. Hooks, Regional Director, Southeast Region, National Park Service, 100 Alabama Street, SW., 1924 Building, Atlanta, Georgia 30303.

Dated: May 15, 2006.
Patricia A. Hooks,
Regional Director, Southeast Region.

[FR Doc. 06-6315 Filed 7-18-06; 8:45 am]

BILLING CODE 4310-70-M